DEPARTMENT OF AGRICULTURE

Animal and Plant Health Inspection Service

[Docket No. APHIS-2008-0121]

Notice of Determination of the High Pathogenicity Avian Influenza Subtype H5N1 Status of Germany and Poland

AGENCY: Animal and Plant Health Inspection Service, USDA.

ACTION: Notice.

SUMMARY: We are advising the public of our determination regarding the high pathogenicity avian influenza (HPAI) subtype H5N1 status of Germany and Poland following outbreaks in 2006 and 2007. Based on assessments of the animal health status of the two countries, which we made available to the public for review and comment through a previous notice, the Administrator has determined that the importation of live birds, poultry carcasses, parts or products of poultry carcasses, and eggs (other than hatching eggs) of poultry, game birds, and other birds from either Germany (except Saxony, Germany) or Poland presents a low risk of introducing HPAI H5N1 into the United States.

DATES: Effective Date: This determination will be effective on June 22, 2009.

FOR FURTHER INFORMATION CONTACT: Mr. Javier Vargas, Regionalization Evaluation Services Staff, National Center for Import and Export, VS, APHIS, 4700 River Road, Unit 38, Riverdale, MD 20737-1231; (301) 734-0756.

SUPPLEMENTARY INFORMATION:

Background

On January 2, 2009, we published in the Federal Register (74 FR 69-70) a notice ¹ in which we announced the availability for review and comment of assessments of the animal health status of Germany and Poland relative to high pathogenicity avian influenza (HPAI) subtype H5N1. In the assessments, titled “APHIS' Evaluation of the Status of High Pathogenicity Avian Influenza H5N1 (HPAI H5N1) in Germany” (October 2008) and “APHIS' Evaluation of the Status of High Pathogenicity Avian Influenza H5N1 virus in Poland” (October 2008), we presented the results of our evaluation of the prevalence of HPAI H5N1 in domestic poultry in the two countries in light of the actions taken by German and Polish animal health authorities during and since the outbreaks of HPAI H5N1 that occurred in those two regions in 2006 and 2007.

¹ To view the notice, the assessments, and the comment we received, go to http://www.regulations.gov/fdmspublic/component/main?main=DocketDetail&d=APHIS-2008-0121.

Our assessments concluded that both Germany and Poland had adequate detection and control measures in place at the time of the outbreaks, that they have been able to effectively control and eradicate HPAI H5N1 in their domestic poultry populations since that time, and that both German and Polish animal health authorities have control measures in place to rapidly identify, control, and eradicate the disease should it be reintroduced into Germany or Poland in either wild birds or domestic poultry.

In our January 2009 notice we stated that, if we could identify no additional risk factors that would indicate that domestic poultry in either Germany or Poland continue to be affected with HPAI H5N1 by the end of the comment period, we would conclude that the importation of live birds, poultry carcasses, parts of carcasses, and eggs (other than hatching eggs) of poultry, game birds, or other birds from regions of Germany and Poland presents a low risk of introducing HPAI H5N1 into the United States.

We solicited comments on the notice for 30 days ending on February 2, 2009. We received one comment on our assessments, from the Ministry of Agriculture and Rural Development of the Republic of Poland. The commenter agreed with our findings. Based on the comment we received, no changes were made to the evaluations.

Therefore we are removing our prohibition on the importation of these products from Germany (except Saxony, Germany) and Poland into the United States. Specifically:

• We are no longer requiring that processed poultry products from Germany (except Saxony, Germany) and Poland be accompanied by a Veterinary Service import permit and government certification confirming that the products have been treated according to APHIS requirements;

• We are allowing unprocessed poultry products from Germany (except Saxony, Germany) and Poland to enter the United States in passenger luggage; and

• We are removing restrictions regarding the regions in Germany (except Saxony, Germany) and Poland from which processed poultry products may originate in order to be allowed entry into the United States in passenger luggage.

However, live birds from Germany and Poland are still subject to the inspections at ports of entry and post-importation quarantines set forth in 9 CFR part 93, unless granted an exemption by the Administrator or destined for diagnostic purposes and accompanied by a limited permit.

Additionally, in our January 2009 notice, we stated that for Germany, we would maintain the restrictions we imposed in response to a subsequent October 2008 outbreak until the European Commission lifted the restrictions it had imposed in response to that outbreak, at which point we would reevaluate the HPAI H5N1 status of the district of Görlitz in Saxony.

The restrictions put in place by the European Commission on October 9, 2008, in response to the presence of HPAI H5N1 in a single flock of mixed species of domestic poultry in the district of Görlitz in Saxony, were lifted on November 13, 2008, following extensive surveillance and epidemiologic investigations. Accordingly, we are publishing a notice in today's issue of the Federal Register, in which we make available, for review and comment, our assessment of the HPAI H5N1 status of Saxony, Germany.

Authority: 7 U.S.C. 450, 7701-7772, 7781-7786, and 8301-8317; 21 U.S.C. 136 and 136a; 31 U.S.C. 9701; 7 CFR 2.22, 2.80, and 371.4.

Done in Washington, DC, this 1st day of June 2009.
Kevin Shea,
Acting Administrator, Animal and Plant Health Inspection Service.

[FR Doc. E9-13154 Filed 6-4-09; 8:45 am]

BILLING CODE 3410-34-P